DEPARTMENT OF THE INTERIOR

Bureau of Land Management

[LLID2100000 L16100000.DO0000]

Notice of Intent To Prepare an Environmental Impact Statement and a Possible Land Use Plan Amendment to the Jarbidge Resource Management Plan for the Proposed China Mountain Wind Project

AGENCY: Bureau of Land Management, Interior.

ACTION: Notice of Intent.

SUMMARY: The Bureau of Land Management (BLM) Jarbidge Field Office, Twin Falls District, Idaho, intends to prepare an Environmental Impact Statement (EIS) for the proposed China Mountain Wind Project, which may include a land use plan amendment to the 1987 Jarbidge Resource Management Plan (RMP), and by this notice is announcing the beginning of the scoping process and soliciting input on the identification of issues. The China Mountain Wind Project is located on 30,700 acres of public, state, and private lands in the Jarbidge Foothills, southwest of the town of Rogerson in Twin Falls County, Idaho, and west of the town of Jackpot in Elko County, Nevada. The EIS will analyze the potential environmental impacts of the construction and operation of a proposed wind power generation facility, associated electric transmission facilities and access roads, and a possible land use plan amendment associated with the project. This notice initiates a 30-day public scoping period to identify relevant issues associated with the proposed project and possible land use plan amendment.

A prior notice dated April 21, 2008, initiated a 60-day public scoping process to identify relevant issues associated with the proposed project. That scoping process was subsequently extended for an additional 30 days, ending July 21, 2008.

DATES: The scoping period will commence with the publication of this notice. The formal scoping period will end on November 16, 2009. Comments regarding issues relative to the proposed project and possible plan amendment should be received on or before November 16, 2009 using one of the methods listed below.

The BLM will announce public scoping meetings through local news media, newsletters, and the BLM Web site: http://www.blm.gov/id/st/en/fo/jarbidge.html at least 15 days prior to the first meeting. The BLM will provide additional opportunities for public participation upon publication of the Draft EIS, including a public comment period.

ADDRESSES: You may submit comments on issues related to the proposed project by any of the following methods:

• E-mail: id_chinamtn_eis@blm.gov.

• Fax: (208) 735-2076.

• Mail: Project Manager, China Mountain EIS, Jarbidge Field Office, 2536 Kimberly Road, Twin Falls, Idaho 83301.

Comments can also be hand-delivered to the Jarbidge Field Office at the address above. Documents pertinent to this proposal may be examined at the Jarbidge Field Office.

FOR FURTHER INFORMATION CONTACT: China Mountain Wind Project Manager, Jarbidge Field Office, 2536 Kimberly Road, Twin Falls, Idaho 83301, telephone (208) 235-2072.

SUPPLEMENTARY INFORMATION: The EIS will be prepared in accordance with the Federal Land Policy and Management Act of 1976 (FLPMA) (43 U.S.C. 1701 et seq.), as amended; the National Environmental Policy Act of 1969 (NEPA) (42 U.S.C. 4321 et seq.), as amended; and the Council on Environmental Quality (CEQ) regulations (40 CFR parts 1500-1508). China Mountain Wind, LLC, has submitted a right-of-way application to BLM to build a commercial wind power generation facility capable of generating up to 425 megawatts (MW) of electricity. Up to 185 wind turbines, each having a generating capacity between 2.3 and 3.0 MW, would be installed on an area covering approximately 30,700 acres in the Jarbidge Foothills, southwest of Rogerson, Idaho, and west of Jackpot, Nevada. The proposed project area includes public land administered by the BLM Elko District, Wells Field Office in northeastern Nevada, public land administered by the BLM Twin Falls District, Jarbidge Field Office, State of Idaho lands, and private lands in south-central Idaho.

Administration ownership | Acres (rounded)
BLM-Jarbidge Field Office, Twin Falls District, Idaho | 15,300
BLM-Wells Field Office, Elko District, Nevada | 4,700
State of Idaho | 2,000
Private | 8,700
Total | 30,700

The turbines proposed for the project would have tower heights ranging from 200 to 250 feet and rotor diameters ranging from 250 to 300 feet. Each turbine would be set on a large concrete foundation. Turbines would be connected by underground electrical cable to one or two substations. Each substation would be sited on a two-acre area and would consist of a graveled, fenced area containing transformer and switching equipment and an area to park utility vehicles. Up to 25 miles of new three-phase 138 kV or 345 kV overhead electric transmission line would be constructed from each substation to a switching station at the point of interconnection with an existing transmission line. The new transmission line would be supported by single steel or double wood poles with a distance of 400 to 500 feet between poles. Other required facilities would include one or two fenced, graveled switching stations of approximately two acres each; one or more Operations and Maintenance buildings; approximately 40 miles of new access roads; approximately 30 miles of improved existing road; and a temporary concrete batch plant. This concrete batch plant would be centrally located on the site, occupying an area of approximately five acres, and would operate during project construction. The proposed project would disturb up to 540 acres on a temporary basis and up to 180 acres on a permanent basis, following reclamation of construction disturbance.

Approximately 60% of both the temporary and permanent impacts would be on lands under the administration of the BLM and approximately 40% would be on State of Idaho and private lands. The proposed project would operate year round for a minimum of 30 years.

The purpose of the China Mountain Wind project, if determined to be appropriate, is to construct a wind power generation facility that uses wind energy resources in an environmentally sound manner to meet existing and future electricity demands in Idaho and Nevada. The proposed project also provides for development of renewable energy resources as encouraged by the Energy Policy Act of 2005 and is consistent with the BLM's Wind Energy Development Policy, as described in the Record of Decision for the Final Programmatic EIS on Wind Energy Development on BLM Administered Lands in the Western United States (December 2005).

At this project's original inception the Jarbidge RMP revision process was already well underway (initiated January 10, 2006). The RMP revision process had identified the need to revise the previous land use planning guidance provided by the 1987 Jarbidge RMP—specifically with regards to rights-of-way, including wind energy and utility corridors. With the RMP revision and this project on two parallel yet staggered timelines, the BLM originally expected that the RMP revision (including new rights-of-way guidance) would be complete prior to issuance of a decision for this project (consistent with that guidance). Unforeseen delays in the RMP revision process have extended the timeline, including: wildfire and subsequent restoration planning and response, litigation, and other delays. The issuance of a specific amendment to the 1987 RMP for the project, consistent with analysis developed during the RMP revision process, will allow the BLM to process the China Mountain application, unimpeded by delays associated with the RMP revision. If the RMP revision is completed prior to issuance of a decision for this project, then a land use plan amendment for the project would not be necessary. However, any further delays in the RMP revision such as scheduling, protest response, or litigation would require continuing with the land use plan amendment for the project so as to minimize delays in processing China Wind's application for this project.

The purpose of the public scoping process is to determine relevant issues that will influence the scope of the environmental analysis and EIS alternatives including a possible land use plan amendment for the project. General concerns in the following categories have been identified to date: Tribal concerns; wildlife (including birds and bats); vegetation (including noxious and invasive weeds); threatened, endangered and sensitive plants and animals, including sage grouse; public safety; public access; recreational opportunities; visual resources; cultural resources; rangeland resources; geology and soils; water quality; climate change and variability; hazardous materials; air quality; noise; fire management; and socioeconomics. You may submit comments on issues in writing to the BLM at any public scoping meeting, or you may submit them to the BLM using one of the methods listed in the ADDRESSES section above. E-mailed comments, including attachments, should be provided in .doc, .pdf, .html, or .txt format. Electronic submissions in other formats or containing viruses will be rejected. Before including your address, phone number, e-mail address, or other personal identifying information in your comment, you should be aware that your entire comment—including your personal identifying information—may be made publicly available at any time. While you can ask us in your comment to withhold your personal identifying information from public review, we cannot guarantee that we will be able to do so.

The EIS process will be a collaborative effort that will consider local, regional, and national needs and concerns. The BLM will work closely with interested parties to identify the management decisions that are best suited to the needs of the public. After gathering public comments, the BLM will identify and provide rationale on those issues that will be addressed in the EIS or those issues beyond the scope of the EIS.

Peter J. Ditton,
Acting State Director, Bureau of Land Management, Idaho.

[FR Doc. E9-24858 Filed 10-14-09; 8:45 am]

BILLING CODE 4310-GG-P